FEDERAL RESERVE SYSTEM

Formations of, Acquisitions by, and Mergers of Savings and Loan Holding Companies

The companies listed in this notice have applied to the Board for approval, pursuant to the Home Owners' Loan Act (12 U.S.C. 1461 et seq.) (HOLA), Regulation LL (12 CFR part 238), and Regulation MM (12 CFR part 239), and all other applicable statutes and regulations to become a savings and loan holding company and/or to acquire the assets or the ownership of, control of, or the power to vote shares of a savings association.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on whether the proposed transaction complies with the standards enumerated in the HOLA (12 U.S.C. 1467a(e)).

Comments regarding each of these applications must be received at the Reserve Bank indicated or the offices of the Board of Governors, Ann E. Misback, Secretary of the Board, 20th Street and Constitution Avenue NW, Washington DC 20551-0001, not later than April 21, 2021.

A. Federal Reserve Bank of Atlanta (Kathryn Haney, Assistant Vice President) 1000 Peachtree Street NE, Atlanta, Georgia 30309. Comments can also be sent electronically to Applications.Comments@atl.frb.org:

1. Cullman Savings Bank, MHC, Cullman, Alabama; to convert from mutual to stock form. As part of the conversion, Cullman Savings Bank, MHC, and Cullman Bancorp, Inc., an existing mid-tier savings and loan holding company, both of Cullman, Alabama, will cease to exist and Cullman Savings Bank, Cullman, Alabama, will become a wholly-owned subsidiary of Cullman Bancorp, Inc., Cullman, Alabama, a newly-formed Maryland corporation, which has applied to become a savings and loan holding company, pursuant to section 10(e) of the HOLA, by acquiring Cullman Savings Bank.

B. Federal Reserve Bank of Chicago (Colette A. Fried, Assistant Vice President) 230 South LaSalle Street, Chicago, Illinois 60690-1414:

1. 1895 Bancorp of Wisconsin, MHC, Greenfield, Wisconsin; to convert from mutual to stock form. As part of the conversion, 1895 Bancorp of Wisconsin, MHC, and 1895 Bancorp of Wisconsin, Inc., an existing mid-tier savings and loan holding company, both of Greenfield, Wisconsin, will cease to exist and PyraMax Bank, FSB, Greenfield, Wisconsin, will become a wholly-owned subsidiary of 1895 Bancorp of Wisconsin, Inc., Greenfield, Wisconsin, a newly-formed Maryland corporation, which has applied to become a savings and loan holding company, pursuant to section 10(e) of the HOLA, by acquiring PyraMax Bank, FSB.

Board of Governors of the Federal Reserve System, March 17, 2021.
Michele Taylor Fennell,
Deputy Associate Secretary of the Board.

[FR Doc. 2021-05880 Filed 3-19-21; 8:45 am]

BILLING CODE P